SMALL BUSINESS ADMINISTRATION

Announcement of the 2013 SBA-Visa Export Video Contest Under the America COMPETES Reauthorization Act of 2011

AGENCY: U.S. Small Business Administration (SBA)

ACTION: Notice.

SUMMARY: The U.S. Small Business Administration (SBA) and Visa U.S.A. Inc. (Visa) (collectively the “Cosponsors”) announce a video contest for eligible small businesses to showcase the advantages of exporting and increase awareness of government assistance available to support small business exporters. This Federal Register Notice is required under Section 105 of the America COMPETES Reauthorization Act of 2011.

DATES: The submission period for entries begins 12:00 p.m. EDT, February 25, 2013 and ends 5:00 p.m. EDT, April 22, 2013. Winners will be announced no later than May 31, 2013.

FOR FURTHER INFORMATION CONTACT: Christopher Eskelinen, Office of International Trade, U.S. Small Business Administration, 409 Third Street SW., Washington, DC 20416; Telephone (202) 205-6726; christopher.eskelinen@sba.gov

SUPPLEMENTARY INFORMATION:

Competition Details

1. Subject of the Competition: The U.S. Small Business Administration (SBA) and Visa U.S.A. Inc. (Visa) (collectively the “Cosponsors”) are cosponsoring an export video contest that seeks to inform small businesses about the advantages of exporting and increase awareness of government assistance available to support small business exporters. The Cosponsors are looking for creative videos from small businesses that show how they became successful exporters. Videos can focus on how the small business became a successful exporter. Videos must highlight at least one of the following: Important lessons learned; factors that influenced the decision to become an exporter; advice for small businesses considering exporting; or a favorite exporting story.

2. Prizes: Five prizes are available: First place: $10,000 cash award; Second place: $8,000 cash award; Third place: $6,000 cash award; Fourth place: $4,000 cash award; and Fifth place: $2,000 cash award. Only one prize will be awarded for each winning submission, regardless of the number of Contest participants that created the winning video. Visa will issue the prizes directly to the Winners.

The Cosponsors (SBA and VISA) may choose to cohost an awards ceremony to announce the Winners. To the extent the Cosponsors cohost an awards ceremony, Winners that choose to travel to such award ceremony for the announcement of the Winners will each receive $1,000 for travel expenses per winning entry, regardless of the number of Contest participants that created the winning video. Any necessary travel arrangements are the sole responsibility of the Winner. Winner will not receive $1,000 for travel expenses if the Cosponsors do not cohost an awards ceremony or if Winner does not attend the awards ceremony. All federal, state and local taxes are the sole responsibility of the Winner.

Competition Rules

1. Eligibility to participate: The contest is open to small businesses in the United States and its territories including, but not limited to, Puerto Rico, the U. S. Virgin Islands and Guam. You must be a small business as determined by SBA's size standards (www.sba.gov/size); have successfully completed at least one export transaction; and used at least one Federal program or service to support an export transaction. The small business owner(s) must be a U.S. citizen or permanent resident and at least 18 years old to enter and win the Contest. Small businesses who have won any prize in the SBA Visa Export Video Contest within the past two years are not eligible. Eligible small businesses may submit only one video. Any videos developed with federal funding, either grant, contract, or loan proceeds, are not eligible to win. Federal employees and their immediate families, Visa U.S.A. Inc. employees and their immediate families, current SBA contractors and SBA grant recipients may enter the Contest but are not eligible to win. “Immediate family members” include spouses, siblings, parents, children, grandparents, and grandchildren, whether as “in-laws”, or by current or past marriage, remarriage, adoption, co-habitation or other familial extension, and any other persons residing at the same household location, whether or not related.

2. Process for participants to register: All Contest Participants must enter the Competition through the Competition Web page on the Challenge.gov portal http://exportvideo.challenge.gov/by 5 p.m. EDT on April 22, 2013. Submissions will be accepted starting at 12 p.m. EDT on February 25, 2013. Contest participants should review all contest rules and eligibility requirements. In order for a video to be eligible to win this Contest, the entry must meet the following requirements:

• Contest participants must create an original video.

• Contest participants must end their video with the following words: “That's my exporting story. Where will your next customer come from?” This statement can be spoken, written, embedded or delivered in any appropriate way deemed effective by the submitter.

• All videos must have a unique title or they will not be judged (i.e., not “My Export Story”).

• Videos must highlight one of the following: Important lessons learned; factors that influenced the decision to become an exporter; advice for small businesses considering exporting; or a favorite exporting story.

• Videos must be 3 minutes or less (no more than 180 seconds) in length and produced in a high-resolution format.

• Videos must be educational, not promotional in nature (i.e., a commercial for the small business' products or services). Videos should tell a story.

• Only one video may be submitted per business.

• Videos must not contain violence, profanity, sex, images of a prurient nature, or direct attacks on individuals or organizations. SBA will disqualify any entries it deems to contain offensive material.

• Contest participants may not use the SBA seal or logo or the Visa trademark in the video.

• The video must be the contest participant's own original creation and must not infringe on any third party rights. No copyrighted music, video, or images may be used in submissions to this contest without appropriate permission. Entrants are responsible for obtaining all necessary permissions. Videos previously developed for other organizations may be submitted. Videos must not have been previously produced for compensation, posted on any SBA page, or submitted to SBA prior to the contest.

• All Contest submissions must adhere to the Challenge.gov Standards of Conduct (http://challenge.gov/terms#standards).

3. Basis on which the winners will be selected: Prior to judging, all Submissions will be screened for Contest participant eligibility and video eligibility. All videos will be judged by a panel of senior officials from SBA, Visa, and other member Federal Agencies from the Trade Promotion Coordinating Committee Small Business Working Group, selected by SBA in its sole discretion. The Judging Panel will rate each Submission approved by the screening panel on the following criteria: Inspirational nature of the message for potential exporters and effectiveness in promoting exporting; Creativity and uniqueness of video concept; Value of lessons learned/communicated; Use of U.S. Government program/service; Innovative means of delivering the message and Audio and visual quality of the video. Winners will be selected based on an overall score. All judging is in SBA's sole discretion and all decisions are final.

Authority: Public Law 111-358 (2011).

Dated: April 3, 2013.
Jonathan Swain,
Chief of Staff.

[FR Doc. 2013-08179 Filed 4-8-13; 8:45 am]

BILLING CODE 8025-01-P